DEPARTMENT OF COMMERCE

International Trade Administration

[A-201-836]

Final Results of Antidumping Duty Changed Circumstances Review: Light-Walled Rectangular Pipe and Tube From Mexico

AGENCY: Import Administration, International Trade Administration, Department of Commerce.

SUMMARY: On June 18, 2009, the Department of Commerce (the Department) made its preliminary determination that Ternium Mexico S.A. de C.V. (Ternium) is the successor-in-interest to Hylsa S.A. de C.V. (Hylsa) and should be treated as such for antidumping duty cash deposit purposes. See Notice of Preliminary Results of Antidumping Duty Changed Circumstances Review: Light-Walled Rectangular Pipe and Tube from Mexico, 74 FR 28887 (June 18, 2009) (Preliminary Results). For purposes of these final results of review, the Department has determined that Ternium is the successor-in-interest to Hylsa and, as a result, should be accorded the same treatment previously accorded to Hylsa in regard to the antidumping duty order on light-walled rectangular pipe and tube (LWRPT) from Mexico as of the date of publication of this notice in the Federal Register.

DATES: Effective Date: August 18, 2009.

FOR FURTHER INFORMATION CONTACT: John Drury or Brian Davis, AD/CVD Operations, Office 7, Import Administration, International Trade Administration, U.S. Department of Commerce, 14th Street and Constitution Avenue, NW, Washington, DC 20230; telephone: (202) 482-0195 or (202) 482-7924, respectively.

SUPPLEMENTARY INFORMATION:

Background

On September 3, 2008, Ternium requested that the Department conduct a changed circumstances review of the antidumping duty order of LWRPT from Mexico to determine whether Ternium is the successor-in-interest to Hylsa and should be treated as such for antidumping duty cash deposit purposes. See Notice of Initiation of Antidumping Duty Changed Circumstances Review: Light-Walled Rectangular Pipe and Tube from Mexico, 73 FR 63686 (October 27, 2008) (Notice of Initiation). On June 18, 2009, the Department preliminarily determined that Ternium is the successor-in-interest to Hylsa and should be treated as such for antidumping duty cash deposit purposes. See Preliminary Results.

On July 13, 2009, the Department published in the Federal Register a notice extending the time limit for these final results to August 17, 2009. See Light-Walled Rectangular Pipe and Tube from Mexico; Extension of Time Limit for Final Results of Antidumping Duty Changed Circumstances Review, 74 FR 33406 (July 13, 2009).

In the Preliminary Results, we stated that interested parties could request a hearing no later than 30 days after the publication of the Preliminary Results, submit case briefs to the Department no later than 30 days after the publication of the Preliminary Results, and submit rebuttal briefs, limited to the issues raised in those case briefs, five days subsequent to the case briefs' due date. We did not receive any hearing requests or comments on the Preliminary Results.

Scope of the Order

The merchandise subject to this order is certain welded carbon quality light-walled steel pipe and tube, of rectangular (including square) cross section, having a wall thickness of less than 4 mm.

The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium.

The description of carbon-quality is intended to identify carbon-quality products within the scope. The welded carbon-quality rectangular pipe and tube subject to this order is currently classified under the Harmonized Tariff Schedule of the United States (HTSUS) subheadings 7306.61.50.00 and 7306.61.70.60. While HTSUS subheadings are provided for convenience and customs purposes, our written description of the scope of this order is dispositive.

Final Results of Changed Circumstances Review

Based on the information provided by Ternium, the Department's analysis in the Preliminary Results, and the fact that interested parties did not submit any briefs during the comment period, the Department hereby determines that Ternium is the successor-in-interest to Hylsa for antidumping duty cash deposit purposes.

Instructions to U.S. Customs and Border Protection

The Department will instruct U.S. Customs and Border Protection to continue to suspend liquidation of all shipments of the subject merchandise produced and exported by Ternium entered, or withdrawn from warehouse, for consumption, on or after the publication date of this notice in the Federal Register at 3.76 percent (i.e., Hylsa's cash deposit rate). This deposit requirement shall remain in effect until further notice.

Notification Regarding Administrative Protective Order

This notice also serves as a reminder to parties subject to administrative protective orders (APOs) of their responsibility concerning the disposition of proprietary information disclosed under APO in accordance with 19 CFR 351.306. Timely written notification of the return/destruction of APO materials or conversion to judicial protective order is herby requested. Failure to comply with the regulations and terms of an APO is a sanctionable violation.

We are issuing and publishing these final results and notice in accordance with sections 751(b)(1) and 777(i)(1) and (2) of the Tariff Act of 1930, as amended, and 19 CFR 351.216.

Dated: August 11, 2009.
Carole Showers,
Acting Deputy Assistant Secretary For Policy and Negotiations.

[FR Doc. E9-19822 Filed 8-17-08; 8:45 am]

BILLING CODE 3510-DS-S